DEPARTMENT OF ENERGY

Federal Energy Regulatory Commission

[Docket No. EL14-102-000]

Kentucky Utilities Company; Notice of Institution of Section 206 Proceeding and Refund Effective Date

On September 23, 2014, the Commission issued an order in Docket No. EL14-102-000, pursuant to section 206 of the Federal Power Act (FPA), 16 U.S.C. 824e (2012), instituting an investigation into the justness and reasonableness of the proposed modifications to the Construction Work In Progress (CWIP) costs portion of Kentucky Utilities Company's formula rate wholesale requirements contracts. Kentucky Utilities Company, 148 FERC ¶ 61,225 (2014).

The refund effective date in Docket No. EL14-102-000, established pursuant to section 206(b) of the FPA, will be the date of publication of this notice in the Federal Register.

Dated: September 23, 2014.
Nathaniel J. Davis, Sr.,
Deputy Secretary.

[FR Doc. 2014-23212 Filed 9-29-14; 8:45 am]

BILLING CODE 6717-01-P